DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Mobile (FEMA Docket No.: B-7474) | Unincorporated areas of Mobile County (05-04-2236P) | September 21, 2006; September 28, 2006; Press-Register | Mr. John Pafenbach, County Administrator, Mobile County, 205 Government Street, Mobile, AL 36644 | December 28, 2006 | 015008
Arizona:
Maricopa (FEMA Docket No.: B-7474) | Unincorporated areas of Maricopa County (06-09-B067P) | September 14, 2006; September 21, 2006; Arizona Business Gazette | The Honorable Don Stapley, Chairman, Maricopa County Board of Supervisors, Administration Building, 301 West Jefferson Street, Tenth Floor, Phoenix, AZ 85003 | December 21, 2006 | 040037
Pima (FEMA Docket No.: B-7712) | Town of Marana (06-09-BD84P) | November 9, 2006; November 16, 2006; The Daily Territorial | The Honorable Ed Honea, Mayor, Town of Marana, Marana Municipal Complex, 11555 West Civic Center Drive, Marana, AZ 85653 | October 26, 2006 | 040118
Benton (FEMA Docket No.: B-7712) | City of Rogers (06-06-BA42P) | December 20, 2006; December 27, 2006; Arkansas Hometown Gazette | The Honorable Steve Womack, Mayor, City of Rogers, 301 West Chestnut, Rogers, AR 72756 | March 28, 2007 | 050013
Crawford (FEMA Docket No.: B-7712) | City of Van Buren (06-06-B796P) | November 29, 2006; December 6, 2006; Press Argus-Courier | The Honorable John Riggs, Mayor, City of Van Buren, 1003 Broadway, Van Buren, AR 72956 | March 7, 2007 | 050053
Crawford (FEMA Docket No.: B-7712) | Unincorporated areas of Crawford County (06-06-B796P) | November 29, 2006; December 6, 2006; Press Argus-Courier | The Honorable Jerry H. Williams, Crawford County Judge, Crawford County Courthouse, 300 Main Street, Van Buren, AR 72956 | March 7, 2007 | 050428
Pulaski (FEMA Docket No.: B-7712) | City of Sherwood (06-06-B539P) | November 16, 2006; November 23, 2006; The Sherwood Voice | The Honorable Bill Harmon, Mayor, City of Sherwood, 2199 East Kiehl Avenue, Sherwood, AR 72120 | February 22, 2007 | 050235
Saline (FEMA Docket No.: B-7712) | City of Benton (06-06-BC89P) | November 30, 2006; December 7, 2006; The Benton Courier | The Honorable Rick Holland, Mayor, City of Benton, Benton Municipal Complex, 114 South East Street, Benton, AR 72015 | November 27, 2006 | 050192
Saline (FEMA Docket No.: B-7712) | Unincorporated areas of Saline County (06-06-BC89P) | November 30, 2006; December 7, 2006; The Benton Courier | The Honorable Lanny Fite, County Judge, Saline County, 200 North Main Street, Room 117, Benton, AR 72015 | November 27, 2006 | 050191
Washington (FEMA Docket No.: B-7703) | City of Fayetteville 06-06-BA12P | November 9, 2006; November 16, 2006; Arkansas Democrat Gazette | The Honorable Dan Coody, Mayor, City of Fayetteville, 113 West Mountain, Fayetteville, AR 72701 | November 20, 2006 | 050216
California:
Contra Costa (FEMA Docket No.: B-7703) | City of Oakley (06-09-BA94P) | November 16, 2006; November 23, 2006; Contra Costa Times | The Honorable Brad Nix, Mayor, City of Oakley, 3231 Main Street, Oakley, CA 94561 | February 22, 2007 | 060766
Merced (FEMA Docket No.: B-7474) | City of Merced (06-09-B107P) | October 18, 2006; October 25, 2006; Chowchilla News | The Honorable Ellie Wooton, Mayor, City of Merced, 678 West 18th Street, Merced, CA 95340 | January 25, 2007 | 060191
Merced (FEMA Docket No.: B-7474) | Unincorporated areas of Merced County (06-09-B107P) | October 18, 2006; October 25, 2006; Chowchilla News | The Honorable Mike Nelson, Chairman, Merced County, Board of Commissioners, 2222 M Street, Second Floor, Merced, CA 95340 | January 25, 2007 | 060188
Nevada (FEMA Docket No.: B-7474) | Town of Truckee (06-09-B008P) | October 26, 2006; November 2, 2006; Sierra Sun | The Honorable Beth Ingalls, Mayor, Town of Truckee, 10183 Truckee Airport Road, Truckee, CA 96161 | September 29, 2006 | 060762
Sacramento (FEMA Docket No.: B-7474) | City of Citrus Heights (06-09-B062P) | October 19, 2006; October 26, 2006; The Daily Recorder | The Honorable Bret Daniels, Mayor, City of Citrus Heights, 6237 Fountain Square Drive, Citrus Heights, CA 95621 | September 22, 2006 | 060765
Sacramento (FEMA Docket No.: B-7474) | City of Elk Grove (06-04-B040P) | September 14, 2006; September 21, 2006; The Daily Recorder | The Honorable Richard Soares, Mayor, City of Elk Grove, 9400 Laguna Palms Way, Elk Grove, CA 95758 | August 25, 2006 | 060767
Sacramento (FEMA Docket No.: B-7703) | Unincorporated areas of Sacramento County (06-09-BD69P) | November 9, 2006; November 16, 2006; The Daily Territorial | The Honorable Roberta Macglashan, Chair, Sacramento County, Board of Supervisors, 700 H Street, Suite 2450, Sacramento, CA 95814 | December 1, 2006 | 060262
San Diego (FEMA Docket No.: B-7474) | City of La Mesa (05-09-A362P) | September 21, 2006; September 28, 2006; San Diego Transcript | The Honorable Art Madrid, Mayor, City of La Mesa, 8130 Allison Avenue, La Mesa, CA 92041 | September 5, 2006 | 060292
San Diego (FEMA Docket No.: B-7474) | City of San Diego (05-09-A362P) | September 21, 2006; September 28, 2006; San Diego Transcript | The Honorable Jerry Sanders, Mayor, City of San Diego, 202 C Street, 11th Floor, San Diego, CA 92101 | September 5, 2006 | 060295
San Diego (FEMA Docket No.: B-7712) | Unincorporated areas of San Diego County (06-09-BF75P) | December 21, 2006; December 28, 2006; San Diego Transcript | The Honorable Bill Horn, Chairman, San Diego County, Board of Supervisors, 1600 Pacific Highway, Room 335, San Diego, CA 92101 | November 29, 2006 | 060284
San Diego (FEMA Docket No.: B-7474) | Unincorporated areas of San Diego County (07-09-0162X) | October 19, 2006; October 26, 2006; The San Diego Transcript | The Honorable Bill Horn, Chairman, San Diego County, Board of Supervisors, 1600 Pacific Highway, San Diego, CA 92123 | February 16, 2007 | 060284
San Luis Obispo (FEMA Docket No.: B-7474) | City of San Luis Obispo (06-09-BA38P) | October 19, 2006; October 26, 2006; The Tribune | The Honorable David F. Romero, Mayor, City of San Luis Obispo, City Hall, 990 Palm Street, San Luis Obispo, CA 93401 | January 25, 2007 | 060310
Santa Barbara (FEMA Docket No.: B-7474) | Unincorporated areas of Santa Barbara County (05-09-1158P) | September 21, 2006; September 28, 2006; Santa Barbara News Press | The Honorable Salud Carbajal, Chairman, Santa Barbara County Board of Supervisors, 105 East Anapamu Street, Santa Barbara, CA 93101 | December 28, 2006 | 060331
Shasta (FEMA Docket No.: B-7474) | City of Redding (06-09-B348P) | September 21, 2006; September 28, 2006; Redding Record Searchlight | The Honorable Ken Murray, Mayor, City of Redding, 777 Cypress Avenue, P.O. Box 496071, Redding, CA 96001 | August 31, 2006 | 060360
Colorado:
Arapahoe (FEMA Docket No.: B-7474) | City of Cherry Hills Village (06-08-B375P) | October 12, 2006; October 19, 2006; The Littleton Independent | The Honorable Mike Wozniak, Mayor, City of Cherry Hills Village, 2450 East Quincy Avenue, Cherry Hills Village, CO 80113 | September 19, 2006 | 080013
Boulder (FEMA Docket No.: B-7703) | Town of Lyons (06-08-B252P) | November 22, 2006; November 29, 2006; The Daily Camera | The Honorable Tim Kyer, Mayor, Town of Lyons, P.O. Box 49, Lyons, CO 80540 | February 28, 2007 | 080029
Boulder (FEMA Docket No.: B-7703) | Unincorporated areas of Boulder County (06-08-B252P) | November 22, 2006; November 29, 2006; The Daily Camera | The Honorable Ben Pearlman, Chairman, Boulder County Board of Commissioners, P.O. Box 471, Boulder, CO 80306 | February 28, 2007 | 080023
Boulder (FEMA Docket No.: B-7712) | City of Boulder (06-08-B289P) | December 20, 2006; December 27, 2006; The Daily Camera | The Honorable Mark Ruzzin, Mayor, City of Boulder, P.O. Box 791, Boulder, CO 80306 | March 28, 2007 | 080024
Boulder (FEMA Docket No.: B-7712) | Unincorporated areas of Boulder County (06-08-B289P) | December 20, 2006; December 27, 2006; The Daily Camera | The Honorable Ben Pearlman, Chairman, Boulder County Board of Commissioners, Boulder County Courthouse, P.O. Box 471, Boulder, CO 80306 | March 28, 2007 | 080023
Broomfield (FEMA Docket No.: B-7474) | City and County of Broomfield (06-08-B417P) | September 27, 2006; October 4, 2006; The Broomfield Enterprise | The Honorable Karen Stuart, Mayor, City and County of Broomfield, One DesCombes Drive, Broomfield, CO 80020 | September 11, 2006 | 085073
Douglas (FEMA Docket No.: B-7474) | City of Lone Tree (06-08-B443P) | October 12, 2006; October 19, 2006; The Douglas County News-Press | The Honorable Jack O'Boyle, Mayor, City of Lone Tree, 9777 South Yosemite Street, Suite 100, Lone Tree, CO 80124 | January 18, 2007 | 080319
Douglas (FEMA Docket No.: B-7474) | Unincorporated areas of Douglas County (06-08-B443P) | October 12, 2006; October 19, 2006; The Douglas County News-Press | The Honorable Walter M. Maxwell, Chairman, Douglas County Board of Commissioners, 100 Third Street, Castle Rock, CO 80104 | January 18, 2007 | 080049
El Paso (FEMA Docket No.: B-7712) | Unincorporated areas of El Paso County (05-08-A578P) | November 22, 2006; November 29, 2006; El Paso County Advertiser and News | The Honorable Jim Bensberg, Chairman, El Paso County Board of Commissioners, 27 East Vermijo Avenue, Colorado Springs, CO 80903-2208 | October 30, 2006 | 080059
El Paso (FEMA Docket No.: B-7712) | Unincorporated areas of El Paso County (06-08-B137P) | November 22, 2006; November 29, 2006; El Paso County Advertiser and News | The Honorable Sallie Clark, Chair, El Paso County Board of Commissioners, 27 East Vermijo Avenue, Colorado Springs, CO 80903 | December 13, 2006 | 080059
Jefferson (FEMA Docket No.: B-7474) | City of Arvada (06-08-B403P) | October 12, 2006; October 19, 2006; The Golden Transcript | The Honorable Ken Fellman, Mayor, City of Arvada, 8101 Ralston Road, Arvada, CO 80002 | January 18, 2007 | 085072
Jefferson (FEMA Docket No.: B-7474) | Unincorporated areas of Jefferson County (06-08-B422P) | September 21, 2006; September 28, 2006; The Golden Transcript | The Honorable J. Kevin McCasky, Chairman, Jefferson County Board of Commissioners, 100 Jefferson County Parkway, Golden, CO 80419-5550 | December 28, 2006 | 080087
Connecticut:
Hartford (FEMA Docket No.: B-7712) | City of Hartford (07-01-0111P) | December 21, 2006; December 28, 2006; The Hartford Courant | The Honorable Eddie A. Perez, Mayor, City of Hartford, 550 Main Street, Hartford, CT 06103 | December 6, 2006 | 095080
Delaware:
New Castle (FEMA Docket No.: B-7712) | Unincorporated areas of New Castle County (06-03-B23P) | December 21, 2006; December 28, 2006; The News Journal | The Honorable Chris Coons, New Castle County Executive, 87 Reads Way, New Castle, DE 19720 | March 29, 2007 | 105085
New Castle (FEMA Docket No.: B-7712) | Unincorporated areas of New Castle County (06-03-B714P) | December 1, 2006; December 8, 2006; Newark Post | The Honorable Paul G. Clark, President, New Castle County Council, City/County Building, 800 North French Street, Eighth Floor, Wilmington, DE 19801 | March 9, 2007 | 105085
Sussex (FEMA Docket No.: B-7703) | Unincorporated areas of Sussex County (05-03-A587P) | November 29, 2006; December 6, 2006; Delaware Wave | Mr. Robert L. Stickels, County Administrator, Sussex County, No. 2 The Circle, Georgetown, DE 19947 | March 7, 2007 | 100029
Florida:
Clay (FEMA Docket No.: B-7712) | Unincorporated areas of Clay County (06-04-BQ02P) | November 9, 2006; November 16, 2006; Clay Today | The Honorable William Wilkes, Circuit Court Judge, Clay County Courthouse, 825 North Orange Avenue, Green Cove Springs, FL 32043 | October 16, 2006 | 120064
Duval (FEMA Docket No.: B-7712) | City of Jacksonville (05-04-A005P) | December 11, 2006; December 18, 2006; Jacksonville Daily Record | The Honorable Mr. John Peyton, Mayor, City of Jacksonville, City Hall at St. James, Fourth Floor, 117 West Duval Street, Jacksonville, FL 32202 | March 19, 2007 | 120077
Flagler (FEMA Docket No.: B-7712) | Unincorporated areas of Flagler County (06-04-BW09P) | December 21, 2006; December 28, 2006; The News-Journal | The Honorable James Darby, Chairman, Board of Commissioners, Flagler County, P.O. Box 1132, Flagler Beach, FL 32136 | November 30, 2006 | 120085
Leon (FEMA Docket No.: B-7474) | City of Tallahassee (05-04-1773P) | September 21, 2006; September 28, 2006; Tallahassee Democrat | The Honorable John Marks, Mayor, City of Tallahassee, 300 South Adams Street, Tallahassee, FL 32301 | December 28, 2006 | 120144
Leon (FEMA Docket No.: B-7712) | Unincorporated areas of Leon County (06-04-B039P) | December 21, 2006; December 28, 2006; Tallahassee Democrat | The Honorable Parwez Alam, Administrator, Leon County, 301 South Monroe Street, Fifth floor, Tallahassee, FL 32301 | March 29, 2007 | 120143
Marion (FEMA Docket No.: B-7712) | Unincorporated areas of Marion County (06-04-BH17P) | November 30, 2006; December 7, 2007; Star-Banner | The Honorable Jim Payton, Chairman, Marion County, Board of Commissioners, 601 Southeast 25th Avenue, Ocala, FL 34471 | October 30, 2006 | 120160
Miami-Dade (FEMA Docket No.: B-7712) | City of Miami (06-04-C312P) | November 30, 2006; December 7, 2006; Miami New Times | The Honorable Manuel A. Diaz, Mayor, City of Miami, 3500 Pan American Drive, Miami, FL 33133 | October 30, 2006 | 120650
Monroe (FEMA Docket No.: B-7474) | Unincorporated areas of Monroe County (06-04-BI38P | September 21, 2006; September 28, 2006; Key West Citizen | The Honorable Dixie Spehar, Mayor, Monroe County, 2798 Overseas Highway, Suite 300, Marathon, FL 33050 | August 29, 2006 | 125129
Pinellas (FEMA Docket No.: B-7474) | City of Clearwater (06-04-B129X) | September 14, 2006; September 21, 2006; St. Petersburg Times | The Honorable Frank Hibbard, Mayor, City of Clearwater, P.O. Box 4748, Clearwater, FL 33758 | December 21, 2006 | 125096
Pinellas (FEMA Docket No.: B-7712) | City of St. Petersburg (06-04-BS96P) | December 21, 2006; December 28, 2006; St. Petersburg Times | The Honorable Rick Baker, 175 Fifth Street North, St. Petersburg, FL 33701 | March 29, 2007 | 125148
Polk (FEMA Docket No.: B-7474) | Unincorporated areas of Polk County (06-04-B694P) | November 2, 2006; November 9, 2006; The Polk County Democrat | Mr. Michael Herr, County Manager, Polk County, P.O. Box 9005, Drawer BC01, Bartow, FL 33831-9005 | August 31, 2006 | 120261
Polk (FEMA Docket No.: B-7712) | Unincorporated areas of Polk County (06-04-BO60P) | November 16, 2006; November 23, 2006; The Polk County Democrat | Mr. Michael Herr, County Manager, Polk County, P.O. Box 9005, Drawer BC01, Bartow, FL 33831 | February 22, 2007 | 120261
Polk (FEMA Docket No.: B-7703) | City of Winter Haven (07-04-0025X) | November 9, 2006; November 16 2006; The Polk County Democrat | The Honorable Mike Easterling, Mayor, City of Winter Haven, 451 Third Street Northwest, Winter Haven, FL 33881 | October 19, 2006 | 120271
Sarasota (FEMA Docket No.: (B-7474) | City of Sarasota (06-04-BH18P) | September 26, 2006; October 3, 2006; The Sarasota Herald-Tribune | The Honorable Fred Atkins, Mayor, City of Sarasota, 1565 First Street, Sarasota, FL 344236 | August 28, 2006 | 125150
Seminole (FEMA Docket No.: B-7474) | Unincorporated areas of Seminole County (06-04-BJ43P) | October 19, 2006; October 26, 2006; Orlando Sentinel | The Honorable Carlton D. Henley, Chairman, Seminole County, Board of Commissioners, Seminole County Services, Building, 1101 East First Street, Sanford, FL 32771 | October 30, 2006 | 120289
St. Johns (FEMA Docket No.: B-7712) | Unincorporated areas of St. Johns County (06-04-BT86P) | November 9, 2006; November 16, 2006; The St. Augustine Record | The Honorable James E. Bryant, Chairman, St. Johns County, Board of County Commissioners, 4020 Lewis Speedway, St. Augustine, FL 32084 | February 15, 2007 | 125147
Columbia (FEMA Docket No.: B-7712) | Unincorporated areas of Columbia County (06-04-C011P) | December 6, 2006; December 13, 2006; Columbia County News-Times | The Honorable Ron C. Cross, Chairman, Columbia County Commissioners, 908 Nerium Trail, Evans, GA 30809 | February 28, 2007 | 130059
Gwinnett (FEMA Docket No.: B-7712) | Unincorporated areas of Gwinnett County (05-04-2732P) | December 21, 2006; December 28, 2006; Gwinnett Daily Post | The Honorable Charles E. Bannister, Chairman, Gwinnett County Board of Commissioners, 75 Langley Drive, Lawrenceville, GA 30045 | March 29, 2007 | 130322
Gwinnett (FEMA Docket No.: B-7712) | Unincorporated areas of Gwinnett County (06-04-C663P) | December 21, 2006; December 28, 2006; Gwinnett Daily Post | The Honorable Charles Bannister, Chairman, Board of Commissioners, Gwinnett County, 75 Langley Drive, Lawrenceville, GA 30045 | November 30, 2006 | 130322
Peach (FEMA Docket No.: B-7703) | Unincorporated areas of Peach County (06-04-BM78P) | October 25, 2006; November 1, 2006; The Leader Tribune | The Honorable James Khoury, Chairman, Peach County, Board of Commissioners, 205 West Church Street, Suite 204, Fort Valley, GA 31030 | January 25, 2007 | 130373
Hawaii:
Hawaii (FEMA Docket No.: B-7474) | Unincorporated areas of Hawaii County (06-09-B247P) | September 14, 2006; September 21, 2006; Hawaii Tribune-Herald | The Honorable Harry Kim, Mayor, County of Hawaii, 25 Aupuni Street, Room 215, Hilo, HI 96720 | December 21, 2006 | 155166
Hawaii (FEMA Docket No.: B-7474) | Unincorporated areas of Hawaii County (06-09-B685P) | October 5, 2006; October 12, 2006; Hawaii Tribune-Herald | The Honorable Harry Kim, Mayor, County of Hawaii, 25 Aupuni Street, Room 215, Hilo, HI 96720 | January 11, 2007 | 155166
Illinois:
De Kalb (FEMA Docket No.: B-7474) | Village of Kirkland (06-05-BF46P) | October 19, 2006; October 26, 2006; Daily Chronicle | The Honorable Michael A Becker, Village President, Village of Kirkland, 511 West Main Street, Kirkland, IL 60146 | January 25, 2006 | 170186
De Kalb (FEMA Docket No.: B-7474) | Unincorporated areas of De Kalb County (06-05-BF46P) | October 19, 2006; October 26, 2006; Daily Chronicle | Mr. Raymond R. Bockman, County Administrator, De Kalb County, 200 North Main Street, Sycamore, IL 60178 | January 25, 2007 | 170808
DuPage (FEMA Docket No.: B-7712) | City of Warrenville (06-05-B753P) | December 21, 2006; December 28, 2006; Daily Herald | The Honorable David L. Brummel, Mayor, City of Warrenville, City Hall 28W701, Stafford Place, Warrenville, IL 60555 | November 22, 2006 | 170218
Kane (FEMA Docket No.: B-7474) | Village of Hampshire (06-05-BC30P) | September 21, 2006; September 28, 2006; Elburn Herald | Mr. Jeffrey Magnussen, Village President, Village of Hampshire, Village Hall 234 South State St, P.O. Box 457, Hampshire, IL 60140 | December 28, 2006 | 170327
Kane (FEMA Docket No.: B-7474) | Village of Hampshire (06-05-BT15P) | October 12, 2006; October 19, 2006; Elburn Herald | The Honorable Jeffrey Magnussen, Village President, Village of Hampshire, P.O. Box 457, Hampshire, IL 60140 | January 18, 2007 | 170327
Kane (FEMA Docket No.: B-7474) | Unincorporated areas of Kane County (06-05-BT15P) | October 12, 2006; October 19, 2006; Elburn Herald | The Honorable Karen McConnaughay, Chairman, Kane County Board, 719 South Batavia Avenue, Building A, Geneva, IL 60134 | January 18, 2007 | 170896
Ogle (FEMA Docket No.: B-7712) | City of Rochelle (06-05-B086P) | November 9, 2006; November 16, 2006; The Rochelle New-Leader | The Honorable Chaad Olson, Mayor, City of Rochelle, 420 North Sixth Street, Rochelle, IL 61068 | February 15, 2007 | 170352
St. Clair (FEMA Docket No.: B-7712) | City of Belleville (06-05-B005P) | November 30, 2006; December 7, 2006; News-Democrat | The Honorable Mark Eckert, Mayor, City Of Belleville, 101 South Illinois Street, Belleville, IL 62220 | March 8, 2007 | 170618
St. Clair (FEMA Docket No.: B-7712) | Unincorporated areas of St. Clair County (06-05-B005P) | November 30, 2006; December 7, 2006; News-Democrat | Mr. Mark Kern, Chairman, St. Clair County Board, St. Clair County Building, 10 Public Square, Belleville, IL 62220 | March 8, 2007 | 170616
Will (FEMA Docket No.: B-7474) | Village of Frankfort (05-05-A220P) | September 14, 2006; September 21, 2006; Daily Southtown | The Honorable Raymond Rossi, Mayor, Village of Frankfort, 432 West Nebraska Street, Frankfort, IL 60423 | August 29, 2006 | 170701
Will (FEMA Docket No.: B-7712) | Village of Frankfort (06-05-BT88P) | November 30, 2006; December 7, 2006; Daily Southtown | The Honorable Jim Holland, Mayor, Village of Frankfort, 432 West Nebraska Street, Frankfort, IL 60423 | October 31, 2006 | 170701
Will (FEMA Docket No.: B-7474) | City of Naperville (06-05-B639P) | October 19, 2006; October 26, 2006; The Naperville Sun | The Honorable A. George Pradel, Mayor, City of Naperville, 400 South Eagle Street, Naperville, IL 60566 | January 18, 2007 | 170213
Will (FEMA Docket No.: B-7474) | Unincorporated areas of Will County (06-05-B639P) | October 19, 2006; October 26, 2006; The Naperville Sun | The Honorable Lawrence M. Walsh, Will County Executive, 302 North Chicago Street, Joliet, IL 60432 | January 18, 2007 | 170695
Indiana:
Hancock (FEMA Docket No.: B-7712) | City of Greenfield (06-05-B085P) | December 21, 2006; December 28, 2006; Greenfield Daily Reporter | The Honorable Rodney Fleming, Mayor, City of Greenfield, Keith J. McClanon, Government Center, 10 South State Street, Greenfield, IN 46140 | January 2, 2007 | 180084
Hancock (FEMA Docket No.: B-7712) | Unincorporated areas of Hancock County (06-05-B085P) | December 21, 2006; December 28, 2006; Greenfield Daily Reporter | Mr. Brian Kleiman, President, Board of Commissioners, Hancock County, 111 South American Legion Place, Greenfield, IN 46130 | March 29, 2007 | 180419
Marion (FEMA Docket No.: B-7474) | City of Indianapolis (06-05-B545P) | October 19, 2006; October 26, 2006; Indianapolis Star | The Honorable Bart Peterson, Mayor, City of Indianapolis, 2501 City-County, Building, 200 East Washington Street, Indianapolis, IN 46204 | October 25, 2006 | 180159
Marion (FEMA Docket No.: B-7474) | Town of Speedway (06-05-B545P) | October 19, 2006; October 26, 2006; Indianapolis Star | Mr. Bruce Sherman, Town Manager, Town of Speedway, 1450 North Lynhurst Drive, Speedway, IN 46224 | October 25, 2006 | 180162
Kansas:
Douglas (FEMA Docket No.: B-7474) | City of Lawrence (06-07-B014P) | September 21, 2006; September 28, 2006; Lawrence Daily Journal-World | The Honorable Mike Amyx, Mayor, City of Lawrence, P.O. Box 708, Lawrence, KS 66044 | August 30, 2006 | 200090
Johnson (FEMA Docket No.: B-7712) | City of Olathe (06-07-B170P) | December 21, 2006; December 28, 2006; The Johnson County Sun | The Honorable Michael Copeland, Mayor, City of Olathe, P.O. Box 768, Olathe, KS 66051-0768 | November 22, 2006 | 200173
Johnson (FEMA Docket No.: B-7712) | City of Overland Park (06-07-B170P) | December 21, 2006; December 28, 2006; The Johnson County Sun | The Honorable Carl Gerlach, Mayor, City of Overland Park, 8500 Santa Fe Drive, Olathe, KS 66061 | November 22, 2006 | 200174
Sedgwick (FEMA Docket No.: B-7712) | City of Wichita (06-07-BB40P) | December 21, 2006; December 28, 2006; The Wichita Eagle | The Honorable Carlos Mayans, Mayor, City of Wichita, City Hall, First Floor, 455 North Main Street, Wichita, KS 67202 | February 5, 2007 | 200238
Maine:
Cumberland (FEMA Docket No.: B-7712) | Town of Windham (06-01-B562P) | November 9, 2006; November 16, 2006; Portland Press Herald | The Honorable John MacKinnon, Chairman, Windham Town Council, 8 School Road, Windham, ME 04062 | October 30, 2006 | 230189
Cumberland (FEMA Docket No.: B-7474) | Town of Windham (06-01-B717P) | October 19, 2006; October 26, 2006; Portland Press Herald | The Honorable John MacKinnon, Chairman, Windham Town Council, 8 School Road, Windham, ME 04062 | January 25, 2007 | 230189
Oxford (FEMA Docket No.: B-7712) | Town of Bethel (06-01-B021P) | November 30, 2006; December 7, 2006; The Bethel Citizen | The Honorable Stanley R. Howe, Chairman, Town of Bethel, P.O. Box 1660, Bethel, ME 04217 | October 30, 2006 | 230088
Maryland:
Allegany (FEMA Docket No.: B-7712) | Unincorporated areas of Allegany County (06-03-B234P) | November 30, 2006; December 7, 2006; The Cumberland Times-News | The Honorable James J. Stakem, President, Allegany County, Board of Commissioners, Allegany County Office Complex, 701 Kelly Road, Fourth Floor, Cumberland, MD 21502-2803 | March 8, 2007 | 240001
Carroll (FEMA Docket No.: B-7712) | Unincorporated areas of Carroll County (05-03-A533P) | October 19, 2006; October 26, 2006; Carroll County Times | The Honorable Julia W. Gouge, President, Carroll County, Board of Commissioners, Carroll County Office Building, 225 North Center Street, Westminster, MD 21157 | January 25, 2007 | 240015
Frederick (FEMA Docket No.: B-7703) | Unincorporated areas of Frederick County (06-03-B384P) | November 9, 2006; November 16, 2006; The Frederick News-Post | The Honorable John L. Thompson, Jr., President, Frederick County Board of County Commissioners, Winchester Hall, 12 East Church Street, Frederick, MD 21701 | February 15, 2007 | 240027
Howard (FEMA Docket No.: B-7712) | Unincorporated areas of Howard County (05-03-A496P) | December 14, 2006; December 21, 2006; Howard County Times | The Honorable James N. Robey, Howard County Executive, 3430 Courthouse Drive, Ellicott City, MD 21043 | November 16, 2006 | 240044
Washington (FEMA Docket No.: B-7474) | Town of Boonsboro (06-03-B016P) | October 5, 2006; October 12, 2006; Hagerstown Herald-Mail | The Honorable Charles F. Kauffman, Jr., Mayor, Town of Boonsboro, 21 North Main Street, Boonsboro, MD 21713 | January 11, 2007 | 240071
Washington (FEMA Docket No.: B-7474) | Unincorporated areas of Washington County (06-03-B016P) | October 5, 2006; October 12, 2006; Hagerstown Herald-Mail | Mr. Rodney Shoop, County Administrator, Washington County, 100 West Washington Street, Hagerstown, MD 21740 | January 11, 2007 | 240070
Massachusetts:
Barnstable (FEMA Docket No.: B-7712) | Town of Bourne (06-01-B530P) | December 21, 2006; December 28, 2006; Cape Cod Times | The Honorable Linda Zuern, Chair, Board of Selectmen, Town of Bourne, 24 Perry Avenue, Buzzards Bay, MA 02532 | November 30, 2006 | 255210
Barnstable (FEMA Docket No.: B-7474) | Town of Falmouth (06-01-B133P) | August 24, 2006; August 31, 2006; Cape Cod Times | Mr. Robert L. Whritenour, Jr., Town Administrator, Town of Falmouth, 59 Town Hall Square, Falmouth, MA 02540 | August 8, 2006 | 255211
Essex (FEMA Docket No.: B-7712) | Town of Wenham (06-01-B791P) | November 9, 2006; November 16, 2006; The Salem News | The Honorable Peter Hersee, Chairman, Wenham Board of Selectmen, 123 Main Street, Wenham, MA 01984 | February 15, 2007 | 250107
Michigan:
Macomb and Marquette (FEMA Docket No.: B-7712) | Township of Macomb (06-05-BT19P) | December 22, 2006; December 29, 2006; Macomb County Legal News | The Honorable John D. Brennan, Supervisor, Township of Macomb, 54111 Broughton Road, Macomb, MI 48042 | March 30, 2007 | 260445
Minnesota:
Hennepin (FEMA Docket No.: B-7474) | City of Plymouth (05-05-3454P) | August 24, 2006; August 31, 2006; Minneapolis Star Tribune | The Honorable Judy Johnson, Mayor, City of Plymouth, 3400 Plymouth Boulevard, Plymouth, MN 55447 | July 28, 2006 | 270179
Olmsted (FEMA Docket No.: B-7712) | City of Rochester (06-05-BR73P) | November 30, 2006; December 7, 2006; Post-Bulletin | The Honorable Ardell Brede, Mayor, City of Rochester, 201 Fourth Street Southeast, Room 281, Rochester, MN 55904 | October 30, 2006 | 275246
Mississippi:
Rankin (FEMA Docket No.: B-7712) | City of Flowood (06-04-C397P) | December 20, 2006; December 27, 2006; Rankin County News | The Honorable Gary Rhoads, Mayor, City of Flowood, P.O. Box 320069, Flowood, MS 39232-0069 | March 29, 2007 | 280289
Rankin (FEMA Docket No.: B-7712) | Unincorporated areas of Rankin County (06-04-C397P) | December 20, 2006; December 27, 2006; Rankin County News | The Honorable Norman McLeod, Rankin County Administrator, 221 East Government Street, Suite A, Brandon, MS 39042 | March 29, 2007 | 280142
Missouri:
Clay (FEMA Docket No.: B-7474) | Village of Claycomo (06-07-BD06P) | October 19, 2006; October 26, 2006; The Sun-Tribune | Ms. Lois Anderson, Village Administrator, Village of Claycomo, 115 East 69 Highway, Claycomo, MO 64119 | September 29, 2006 | 290089
Clay (FEMA Docket No.: B-7474) | City of Liberty (06-07-BD06P) | October 19, 2006; October 26, 2006; The Sun-Tribune | The Honorable Robert T. Steinkamp, Mayor, City of Liberty, 101 East Kansas Street, Liberty, MO 64068 | September 29, 2006 | 290096
Pemiscot (FEMA Docket No.: B-7712) | City of Caruthersville (06-07-B730P) | December 21, 2006; December 28, 2006; Caruthersville-Hayti Democrat-Argus | The Honorable Diane Sayre, Mayor, City of Caruthersville, 200 West Third Street, Caruthersville, MO 63830 | March 29, 2007 | 290275
Pemiscot (FEMA Docket No.: B-7712) | Unincorporated areas of Pemiscot County (06-07-B730P) | December 21, 2006; December 28, 2006; Caruthersville Hayti Democrat-Argus | The Honorable Charles Moss, Presiding Commissioner, Pemiscot County Commission, 610 Ward Avenue, Caruthersville, MO 63830 | March 29, 2007 | 290779
St. Charles (FEMA Docket No.: B-7712) | City of O'Fallon (06-07-B699P) | September 20, 2006; September 27, 2006; St. Charles Journal | The Honorable Donna Morrow, Mayor, City of O'Fallon, City Hall, 100 North Main Street, O'Fallon, MO 63366 | December 27, 2006 | 290316
St. Charles (FEMA Docket No.: B-7712) | Unincorporated areas of St. Charles County (06-07-B699P) | September 20, 2006; September 27, 2006; St. Charles Journal | The Honorable Joe Ortwerth, County Executive, St. Charles County Administration Building, 201 North Second Street, St. Charles, MO 63301 | December 27, 2006 | 290315
Warren (FEMA Docket No.: B-7703) | City of Wright City (06-07-B605P) | November 16, 2006; November 23, 2006; Warren County Record | The Honorable Eileen Klocke, Mayor, City of Wright City, P.O. Box 436, Wright City, MO 63390 | February 22, 2007 | 290654
Warren (FEMA Docket No.: B-7703) | Unincorporated areas of Warren County (06-07-B605P) | November 16, 2006; November 23, 2006; Warren County Record | The Honorable Fred Vahle, Presiding Commissioner, Warren County, Board of Commissioners, 104 West Main Street, Suite B, Warrenton, MO 63383 | February 22, 2007 | 290443
Nevada:
Clark (FEMA Docket No.: B-7712) | Unincorporated areas of Clark County (06-09-B036P) | November 9, 2006; November 16, 2006; Las Vegas Review-Journal | The Honorable Rory Reid, Chair, Clark County Board of Commissioners, 500 South Grand Central Parkway, Las Vegas, NV 89106 | October 31, 2006 | 320003
Clark (FEMA Docket No.: B-7712) | Unincorporated areas of Clark County (06-09-B275P) | November 9, 2006; November 16, 2006; Las Vegas Review-Journal | The Honorable Rory Reid, Chair, Clark County Board, Of Commissioners, 500 South Grand Central Parkway, Las Vegas, NV 89106 | February 15, 2007 | 320003
New Mexico:
Bernalillo (FEMA Docket No.: B-7474) | City of Albuquerque (06-06-B638P) | October 12, 2006; October 19, 2006; The Albuquerque Journal | The Honorable Martin J. Chavez, Mayor, City of Albuquerque, P.O. Box 1293, Albuquerque, NM 87103 | September 20, 2006 | 350002
Sandoval (FEMA Docket No.: B-7712) | City of Rio Rancho (06-06-BI29P) | November 30, 2006; December 7, 2006; The Santa Fe New Mexican | The Honorable Ken Jackson, Mayor, City of Rio Rancho, 3900 Southern Boulevard, Rio Rancho, NM 87124 | December 1, 2006 | 350146
Santa Fe (FEMA Docket No.: B-7474) | Unincorporated areas of Santa Fe County (06-06-B296P) | September 21, 2006; September 28, 2006; The Santa Fe New Mexican | Mr. Gerald T.E. Gonzalez, County Manager, Santa Fe County, P.O. Box 276, Santa Fe, NM 87504 | August 29, 2006 | 350069
North Carolina:
Beaufort (FEMA Docket No.: B-7474) | Unincorporated areas of Beaufort County (06-04-BP18P) | October 19, 2006; October 26, 2006; Washington Daily News | Mr. Paul Spruill, County Manager, Beaufort County, P.O. Box 1027, Washington, NC 27889 | September 25, 2006 | 370013
Beaufort (FEMA Docket No.: B-7474) | City of Washington (06-04-BP18P) | October 19, 2006; October 26, 2006; Washington Daily News | The Honorable Judy Jennette, Mayor, City of Washington, P.O. Box 1988, Washington, NC 27889 | September 25, 2006 | 370017
Durham (FEMA Docket No.: B-7712) | City of Durham (06-04-B004P) | November 9, 2006; November 16, 2006; The Herald-Sun | The Honorable William V. “Bill” Bell, Mayor, City of Durham, 101 City Hall Plaza, Durham, NC 27701 | October 27, 2006 | 370086
Guilford (FEMA Docket No.: B-7474) | City of Greensboro (05-04-A010P) | July 20, 2006; July 27, 2006; News & Record | The Honorable Keith Holliday, Mayor, City of Greensboro, P.O. Box 3136, Greensboro, NC 27402 | October 26, 2006 | 375351
North Dakota: Morton (FEMA Docket No.: B-7474) | City of Mandan (06-08-B460P) | September 21, 2006; September 28, 2006; The Bismarck Tribune | The Honorable Ken LaMont, Mayor, City of Mandan, 205 Second Avenue, Northwest, Mandan, ND 58554 | August 29, 2006 | 380072
Ohio:
Allen (FEMA Docket No.: B-7712) | City of Lima (05-05-0634P) | November 30, 2006; December 7, 2006; The Lima News | The Honorable David J. Berger, Mayor, City of Lima, 50 Town Square, Lima, OH 45801 | March 8, 2007 | 390006
Allen (FEMA Docket No.: B-7712) | Unincorporated areas of Allen County (05-05-0634P) | November 30, 2006; December 7, 2006; The Lima News | The Honorable Greg Sneary, President, Allen County, Board of Commissioners, 301 West North Street, Lima, OH 45801 | March 8, 2007 | 390758
Delaware (FEMA Docket No.: B-7474) | City of Powell (06-05-BJ86P) | October 19, 2006; October 26, 2006; Delaware Gazette | The Honorable Don Grubbs, Mayor, City of Powell, 47 Hall Street, Powell, OH 43065 | January 25, 2007 | 390626
Fairfield (FEMA Docket No.: B-7474) | Unincorporated areas of Fairfield County (06-05-BA30P) | October 19, 2006; October 26, 2006; Lancaster Eagle Gazette | The Honorable Jon Myers, County Commissioner, Board of Commissioners, Fairfield County, 210 East Main Street, Room 301, Lancaster, OH 43130 | January 25, 2007 | 390158
Franklin (FEMA Docket No.: B-7474) | City of Columbus (05-05-0944P) | September 21, 2006; September 28, 2006; The Columbus Dispatch | The Honorable Michael B. Coleman, Mayor, City of Columbus, 90 West Broad Street, Columbus, OH 43215 | December 28, 2006 | 390170
Franklin (FEMA Docket No.: B-7474) | Unincorporated areas of Franklin County (05-05-0944P) | September 21, 2006; September 28, 2006; The Columbus Dispatch | The Honorable Paula Brooks, President, Franklin County Board of Commissioners, 373 South High Street, Columbus, OH 43215 | December 28, 2006 | 390167
Lucas (FEMA Docket No.: B-7712) | City of Toledo (06-05-B078P) | December 1, 2006; December 7, 2006; Toledo Legal News | The Honorable Carleton S. Finkbeiner, Mayor, City of Toledo, One Government Center, 640 Jackson, Suite 2200, Toledo, OH 43604 | October 30, 2006 | 395373
Lucas (FEMA Docket No.: B-7712) | City of Toledo (07-05-0330X) | December 21, 2006; December 28, 2006; Toledo Legal News | The Honorable Carleton S. Finkbeiner, Mayor, City of Toledo, One Government Center, 640 Jackson, Suite 2200, Toledo, OH 43604 | November 29, 2006 | 395373
Lucas (FEMA Docket No.: B-7712) | Unincorporated areas of Lucas County (06-05-BW42P) | December 1, 2006; December 7, 2006; Toledo Legal News | Ms.Tina Skeldon Wozniak, President, Lucas County Board of Commissioners, One Government Center, Suite 800, Toledo, OH 43604 | October 30, 2006 | 390359
Oklahoma:
Cleveland (FEMA Docket No.: B-7474) | City of Moore (05-06-0578P) | October 19, 2006; October 26, 2006; The Norman Transcript | The Honorable Glenn Lewis, Mayor, City of Moore, 301 North Broadway, Moore, OK 73160 | September 29, 2006 | 400044
Tulsa (FEMA Docket No.: B-7474) | City of Broken Arrow (06-06--BE22P) | October 19, 2006; October 26, 2006; Tulsa World | The Honorable Richard Carter, Mayor, City of Broken Arrow, P.O. Box 610, Broken Arrow, OK 74012 | January 25, 2007 | 400236
Oregon: Jackson (FEMA Docket No.: B-7474) | City of Jacksonville (06-10-B002P) | October 12, 2006; October 19, 2006; Medford Mail Tribune | The Honorable James W. Lewis, Mayor, City of Jacksonville, P.O. Box 7, Jacksonville, OR 97530 | January 18, 2007 | 410095
Pennsylvania:
Chester (FEMA Docket No.: B-7474) | Township of West Goshen (05-03-0848P) | September 21, 2006; September 28, 2006; Daily Local News | The Honorable Edward G. Meakim, Jr., Chairman, West Goshen Township Board of Supervisors, 1025 Paoli Pike, West Chester, PA 19380-4699 | December 28, 2006 | 420293
Cumberland (FEMA Docket No.: B-7712) | Township of Lower Allen (06-03-B823P) | November 30, 2006; December 7, 2006; The Sentinel | The Honorable John T. Titzel, President, Board of Commissioners, Township of Lower Allen, 1993 Hummel Avenue, Camp Hill, PA 17011 | March 8, 2007 | 421016
Cumberland (FEMA Docket No.: B-7712) | Township of Silver Spring (06-03-B462P) | December 21, 2006; December 28, 2006; The Sentinel | The Honorable Christopher R. Latta, Chairman, Silver Spring Township Supervisors, 6475 Carlisle Pike, Mechanicsburg, PA 17055 | November 30, 2006 | 420370
Delaware (FEMA Docket No.: B-7474) | Borough of Collingsdale (05-03-A446P) | Novmeber 2, 2006; November 9, 2006; Delaware County Daily Times | The Honorable Frank C. Kelly, Mayor, Borough of Collingdale, 800 MacDade Boulevard, Collingdale, PA 19023 | October 10, 2006 | 420408
Lehigh (FEMA Docket No.: B-7712) | City of Allentown (06-03-B617P) | December 1, 2006; December 8, 2006; The Express-Times | The Honorable Ed Pawlowski, Mayor, City of Allentown, Office of the Mayor, 435 Hamilton Street, Allentown, PA 18101 | March 9, 2007 | 420585
York (FEMA Docket No.: B-7474) | Township of Penn (05-03-0718P) | October 12, 2006; October 19, 2006; The York Dispatch | The Honorable Joseph A. Klunk, President, Penn Township Board of Commissioners, Penn Township Municipal Building, 20 Wayne Avenue, Hanover, PA 17331 | January 18, 2007 | 421025
Rhode Island: Providence (FEMA Docket No.: B-7712) | Town of North Smithfield (06-01-B167P) | November 30, 2006; December 7, 2006; The Call | The Honorable David Lovett, Chairman, North Smithfield Town Council, 1 Main Street, North Smithfield, RI 02876 | October 10, 2006 | 440021
South Carolina:
Berkeley (FEMA Docket No.: B-7474) | Unincorporated areas of Berkeley County (06-04-BO05P | October 25, 2006; November 1, 2006; Berkeley Independent | The Honorable James H. Rozier, Jr., Supervisor and County Council Chairman, Berkeley County, 1003 Highway 52, Moncks Corner, SC 29461 | September 28, 2006 | 450029
Charleston (FEMA Docket No.: B-7712) | City of Charleston (06-04-BQ23P) | November 30, 2006; December 7, 2006; The Post and Courier | The Honorable Joseph P. Riley, Jr., Mayor, City of Charleston, P.O. Box 652, Charleston, SC 29402 | October 27, 2006 | 455412
Charleston (FEMA Docket No.: B-7712) | City of Isle of Palms (07-04-0193P) | December 21, 2006; December 28, 2006; The Post and Courier | Ms. Linda Lovvorn Tucker, City Administrator, City of Isle of Palms, Post Office Box 508, Isle of Palms, SC 29451 | November 30, 2006 | 455416
Greenville (FEMA Docket No.: B-7474) | Unincorporated areas of Greenville County (06-04-B141P) | September 22, 2006; September 28, 2006; The Greenville News | The Honorable Butch Kirven, Chairman, Greenville County Council, Seven Ralph Hendricks Drive, Simpsonville, SC 29681 | December 28, 2006 | 450089
Horry (FEMA Docket No.: B-7712) | City of Myrtle Beach (05-04-2815P) | December 21, 2006; December 28, 2006; Horry Independent | Mr. Thomas Leath, Manager, City of Myrtle Beach, P.O. Drawer 2468, Myrtle Beach, SC 29577 | November 17, 2006 | 450109
Horry (FEMA Docket No.: B-7712) | Unincorporated areas of Horry County (06-04-C114P) | November 22, 2006; November 30, 2006; Horry Independent | Mr. Danny Knight, County Administrator, Horry County, P.O. Box 1236, Conway, SC 29528 | March 1, 2007 | 450104
Lexington (FEMA Docket No.: B-7474) | Unincorporated areas of Lexington County (06-04-BM33P) | October 5, 2006; October 12, 2006; The Lexington County Chronicle | Ms. Katherine Doucett, County Administrator, Lexington County, 212 South Lake Drive, Lexington, SC 29072 | January 11, 2007 | 450129
Lexington (FEMA Docket No.: B-7474) | Unincorporated areas of Lexington County (06-04-BQ42P) | October 19, 2006; October 26, 2006; The Lexington County Chronicle | Ms. Katherine Doucett, County Administrator, Lexington County, 212 South Lake Drive, Lexington, SC 29072 | January 25, 2007 | 450129
Richland (FEMA Docket No.: B-7712) | Unincorporated areas of Richland County (06-04-BP19P) | December 22, 2006; December 29, 2006; The Columbia Star | The Honorable Anthony G. Mizzell, Chair, Richland County Council, 106 Wembley Street, Columbia, SC 29209 | March 30, 2007 | 450170
Richland (FEMA Docket No.: B-7474) | Unincorporated areas of Richland County (06-04-BT87P) | October 20, 2006; October 27, 2006; The Columbia Star | The Honorable Anthony G. Mizzell, Chair, Richland County Council, 106 Wembley Street, Columbia, SC 29209 | September 25, 2006 | 450170
Richland (FEMA Docket No.: B-7712) | Unincorporated areas of Richland County (07-04-0179P) | December 22, 2006; December 29, 2006; The Columbia Star | The Honorable Anthony Mizzell, Chairman, Richland County Council, P.O. Box 192, Columbia, SC 29202 | March 30, 2007 | 450170
South Dakota:
Brown (FEMA Docket No.: B-7703) | City of Aberdeen (06-08-B272P) | November 2, 2006; November 9, 2006; Aberdeen American News | The Honorable Mike Levsen, Mayor, City of Aberdeen, 123 South Lincoln, Aberdeen, SD 57401 | February 8, 2007 | 460007
Brown (FEMA Docket No.: B-7703) | Unincorporated areas of Brown County (06-08-B272P) | November 2, 2006; November 9, 2006; Aberdeen American News | The Honorable Deb Knecht, Chairman, Brown County Board of Commissioners, 25 Market Street, Aberdeen, SD 57401 | February 8, 2007 | 460006
Pennington (FEMA Docket No.: B-7712) | City of Rapid City (06-08-B495P) | December 21, 2006; December 28, 2006; Rapid City Journal | The Honorable Jim Shaw, Mayor, City of Rapid City, 300 Sixth Street, Rapid City, SD 57701 | March 29, 2007 | 465420
Pennington (FEMA Docket No.: B-7712) | Unincorporated areas of Pennington County (06-08-B495P) | December 21, 2006; December 28, 2006; Rapid City Journal | The Honorable Kenneth Davis, Chairperson, Pennington County Board of Commissioners, 315 Saint Joseph Street, Rapid City, SD 57701 | March 29, 2007 | 460064
Tennessee:
Hamilton (FEMA Docket No.: B-7703) | City of Chattanooga (05-04-3186P) | November 16, 2006; November 23, 2006; Chattanooga Times Free Press | The Honorable Ron Littlefield, Mayor, City of Chattanooga, 1001 Lindsay Street, Chattanooga, TN 37402 | February 22, 2007 | 370072
Hamilton (FEMA Docket No.: B-7474) | City of Chattanooga (06-04-BV55P) | October 26, 2006; November 2, 2006; Chattanooga Times Free Press | The Honorable Ron Littlefield, Mayor, City of Chattanooga, City Hall, Suite 100 101 East 11th Street, Chattanooga, TN 37402 | February 1, 2007 | 470072
Nashville and Davidson (FEMA Docket No.: B-7712) | Metropolitan Government of Nashville and Davidson County (07-04-0583P) | December 21, 2006; December 28, 2006; Nashville Record | The Honorable Bill Purcell, Mayor, Metropolitan Government of Nashville and Davidson County, 107 Metropolitan Courthouse, Nashville, TN 37201 | November 30, 2006 | 470040
Williamson (FEMA Docket No.: B-7474) | City of Brentwood (06-04-C457P) | October 19, 2006; October 26, 2006; The Tennessean | The Honorable Brian Joe Sweeney, Mayor, City of Brentwood, P.O. Box 788, Brentwood, TN 37024-0788 | January 25, 2007 | 470205
Williamson (FEMA Docket No.: B-7712) | Town of Nolensville (06-04-BX96P) | December 21, 2006; December 28, 2006; Tennessean A.M. Section | The Honorable Tommy Dugger, Mayor, Town of Nolensville, 2260 Rolling Hills, Nolensville, TN 37135 | November 22, 2006 | 470425
Texas:
Bexar (FEMA Docket No.: B-7712) | City of Live Oak (04-06-A273P) | November 30, 2006; December 7, 200; Daily Commercial Recorder | The Honorable Henry O. Edward, Jr., Mayor, City of Live Oak, 8001 Shin Oak Drive, Live Oak, TX 78233 | March 8, 2007 | 480043
Bexar (FEMA Docket No.: B-7712) | City of San Antonio (06-06-B191P) | November 30, 2006; December 7, 2006; Daily Commercial Recorder | The Honorable Phil Hardberger, Mayor, City of San Antonio, P.O. Box 839966 San Antonio, TX 78283 | March 8, 2007 | 480045
Bexar (FEMA Docket No.: B-7712) | City of San Antonio (06-06-BC37P) | November 30, 2006; December 7, 2006; Daily Commercial Recorder | The Honorable Phil Hardberger, Mayor, City of San Antonio, P.O. Box 839966 San Antonio, TX 78283 | March 8, 2007 | 480045
Bexar (FEMA Docket No.: B-7712) | City of San Antonio (06-06-BD54P) | November 22, 2006; November 30, 2006; Daily Commercial Recorder | The Honorable Phil Hardberger, Mayor, City of San Antonio, P.O. Box 839966 San Antonio, TX 78283 | March 1, 2007 | 480045
Bexar (FEMA Docket No.: B-7712) | City of Shavano Park (06-06-BD54P) | November 22, 2006; November 30, 2006; Daily Commercial Recorder | The Honorable Tommy Peyton, Mayor, City of Shavano Park, 900 Saddletree Court, San Antonio, TX 78231 | March 1, 2007 | 480047
Bexar (FEMA Docket No.: B-7712) | Unincorporated areas of Bexar County (04-06-A273P) | November 30, 2006; December 7, 2006; Daily Commercial Recorder | The Honorable Nelson W. Wolff, County Judge, Bexar County Courthouse, 100 Dolorosa, Suite 1.20, San Antonio, TX 78205 | March 8, 2007 | 480035
Brazos (FEMA Docket No.: B-7474) | City of Bryan (05-06-0891P) | October 19, 2006; October 26, 2006; The Eagle | The Honorable Ernie Wentrcek, Mayor, City of Bryan, 300 South Texas Avenue, Bryan, TX 77803 | January 25, 2007 | 480082
Brazos (FEMA Docket No.: B-7712) | City of College Station (06-06-B753P) | December 21, 2006; December 28, 2006; The Eagle | The Honorable Ron Silvia, Mayor, City of College Station, 1101 Texas Avenue, College Station, TX 77840 | March 29, 2007 | 480083
Collin (FEMA Docket No.: B-7712) | City of Allen (06-06-B685P) | December 21, 2006; December 28, 2006; The Allen American | The Honorable Stephen Terrell, Mayor, City of Allen, 305 Century Parkway, Allen, TX 75013 | March 29, 2007 | 480131
Collin (FEMA Docket No.: B-7474) | City of Princeton (06-06-B820P) | September 21, 2006; September 28, 2006; The Princeton Herald | The Honorable Kathy Davis, Mayor, City of Princeton, P.O. Box 970, Princeton, TX 75407 | August 30, 2006 | 480757
Dallas (FEMA Docket No.: B-7712) | City of Grand Prairie (06-06-B413P) | December 21, 2006; December 28, 2006; The Daily Commercial Record | The Honorable Charles England, Mayor, City of Grand Prairie, 317 College Street, Grand Prairie, TX 75050 | March 29, 2007 | 485472
Dallas (FEMA Docket No.: B-7474) | City of Grand Prairie (06-06-B658P) | September 21, 2006; September 28, 2006; The Daily Commercial Record | The Honorable Charles England, Mayor, City of Grand Prairie, 317 College Street, Grand Prairie, TX 75050 | December 28, 2006 | 485472
Dallas (FEMA Docket No.: B-7703) | City of Hutchins (06-06-B194P) | November 22, 2006; November 29, 2006; The Daily Commercial Record | The Honorable Artis Johnson, Mayor, City of Hutchins, P.O. Box 500, Hutchins, TX 75141 | February 28, 2007 | 480179
Dallas (FEMA Docket No.: B-7474) | City of Rowlett (06-06-B822P) | September 8, 2006; September 15, 2006; Rowlett Lakeshore Times | The Honorable C. Shane Johnson, Mayor, City of Rowlett, P.O. Box 99, Rowlett, TX 75030-0099 | December 15, 2006 | 480185
Dallas (FEMA Docket No.: B-7703) | City of Wilmer (06-06-B194P) | November 22, 2006; November 29, 2006; The Daily Commercial Record | The Honorable Linda Root, Mayor, City of Wilmer, 128 North Dallas Avenue, Wilmer, TX 75172 | February 28, 2007 | 480190
Denton (FEMA Docket No.: B-7474) | Town of Bartonville (06-06-B742P) | October 20, 2006; October 26, 2006; Denton Record-Chronicle | The Honorable Ron Robertson, Mayor, Town of Bartonville, 1941 East Jeter Road, Bartonville, TX 76226 | September 28, 2006 | 481501
Denton (FEMA Docket No.: B-7474) | City of Denton (06-06-BD25P) | October 19, 2006; October 26, 2006; Denton Record-Chronicle | The Honorable Perry McNeill, Mayor, City of Denton, 215 East McKinney Street, Denton, TX 76201 | September 28, 2006 | 480194
Denton (FEMA Docket No.: B-7474) | City of The Colony (05-06-A219P) | October 20, 2006; October 26, 2006; Denton Record-Chronicle | The Honorable John Dillard, Mayor, City of The Colony, 6800 Main Street, The Colony, TX 75056 | January 25, 2007 | 481581
Denton (FEMA Docket No.: B-7474) | City of Fort Worth (06-06-B018P) | September 21, 2006; September 28, 2006; Northeast Tarrant Star-Telegram | The Honorable Michael J. Moncrief, Mayor, City of Fort Worth, 1000 Throckmorton Street, Fort Worth, TX 76102 | August 31, 2006 | 480596
Denton (FEMA Docket No.: B-7474) | Unincorporated areas of Denton County (06-06-BD25P) | October 19, 2006; October 26, 2006; Denton Record-Chronicle | The Honorable Mary Horn, Denton County Judge, 110 West Hickory Street, Second Floor, Denton, TX 76201 | September 28, 2006 | 480774
El Paso (FEMA Docket No.: B-7703) | City of El Paso (06-06-B414P) | November 9, 2006; November 16, 2006; El Paso Times | The Honorable John Cook, Mayor, City of El Paso, Two Civic Center Plaza, 10th Floor, El Paso, TX 79901 | February 15, 2007 | 480214
Ellis (FEMA Docket No.: B-7712) | City of Waxahachie (06-06-BF64P) | November 9, 2006; November 16, 2006; Waxahachie Daily Light | The Honorable Jay Barksdale, Mayor, City of Waxahachie, P.O. Box 757, Waxahachie, TX 75165 | February 15, 2007 | 480211
Fort Bend (FEMA Docket No.: B-7474) | Fort Bend County LID No. 7 (06-06-B073P) | October 19, 2006; October 26, 2006; Fort Bend Herald | Mr. Epifanio Salazar, P.E., Board President, Fort Bend County L.I.D. No. 7, c/o Schwartz, Page & Harding, L.L.P., 1300 Post Oak Boulevard, Suite 1400, Houston, TX 77027 | January 25, 2007 | 481594
Fort Bend (FEMA Docket No.: B-7474) | City of Sugar Land (06-06-B073P) | October 19, 2006; October 26, 2006; Fort Bend Herald | The Honorable David G. Wallace, Mayor, City of Sugar Land, P.O. Box 110, Sugar Land, TX 77487 | January 25, 2007 | 480234
Fort Bend (FEMA Docket No.: B-7474) | Unincorporated areas of Fort Bend County (06-06-B073P) | October 19, 2006; October 26, 2006; Fort Bend Herald | The Honorable Robert E. Hebert, PhD, Fort Bend County Judge, 301 Jackson Street, Suite 719, Richmond, TX 77469 | January 25, 2007 | 480228
Harris (FEMA Docket No.: B-7712) | Unincorporated areas of Harris County (06-06-B392P) | November 30, 2006; December 7, 2006; Houston Chronicle | The Honorable Robert Eckels, Harris County Judge, 1001 Preston, Suite 911, Houston, TX 77002 | March 7, 2007 | 480287
McClellan (FEMA Docket No.: B-7474) | City of Waco (06-06-B021P) | September 14, 2006; September 21, 2006; Waco Tribune-Herald | The Honorable Virginia DuPuy, Mayor, City of Waco, P.O. Box 2570, Waco, TX 76702-2570 | December 21, 2006 | 480461
Montgomery (FEMA Docket No.: B-7712) | Unincorporated areas of Montgomery County (06-06-BE46P) | December 20, 2006; December 27, 2006; Conroe Courier | The Honorable Alan B. Sadler, Montgomery County Judge, 301 North Thompson, Suite 210, Conroe, TX 77301 | March 28, 2007 | 480483
Rockwall (FEMA Docket No.: B-7474) | Unincorporated areas of Rockwall County (06-06-B819P) | September 20, 2006; September 27, 2006; Royse City Herald-Banner | The Honorable Bill Bell, Rockwall County Judge, 101 East Rusk Street, Suite 202, Rockwall, TX 75087 | December 28, 2006 | 480543
Tarrant (FEMA Docket No.: B-7712) | City of Colleyville (06-06-BG05P) | December 21, 2006; December 28, 2006; Fort Worth Star-Telegram | The Honorable David Kelly, Mayor, City of Colleyville, 100 Main Street, Colleyville, TX 76034 | March 29, 2007 | 480590
Tarrant (FEMA Docket No.: B-7712) | City of Fort Worth (06-06-B537P) | December 21, 2006; December 28, 2006; Fort Worth Star-Telegram | The Honorable Michael J. Moncrief, Mayor, City of Fort Worth, 1000 Throckmorton Street, Fort Worth, TX 76102 | January 2, 2007 | 480596
Tarrant (FEMA Docket No.: B-7712) | City of Fort Worth (06-06-B717P) | November 9, 2006; November 16, 2006; Fort Worth Star-Telegram | The Honorable Michael J. Moncrief, Mayor, City of Fort Worth, 1000 Throckmorton Street, Fort Worth, TX 76102 | February 15, 2007 | 480596
Tarrant (FEMA Docket No.: B-7474) | City of Fort Worth (06-06-BC39P) | September 14, 2006; September 21, 2006; Northeast Tarrant Star-Telegram | The Honorable Michael J. Moncrief, Mayor, City of Fort Worth, 1000 Throckmorton Street, Fort Worth, TX 76102 | December 21, 2006 | 480596
Tarrant (FEMA Docket No.: B-7474) | City of Fort Worth (06-06-BE06P) | September 21, 2006; September 28, 2006; Northeast Tarrant Star-Telegram | The Honorable Michael J. Moncrief, Mayor, City of Fort Worth, 1000 Throckmorton Street, Fort Worth, TX 76102 | December 28, 2006 | 480596
Tarrant (FEMA Docket No.: B-7712) | City of Fort Worth (06-06-BH46P) | December 21, 2006; December 28, 2006; Fort Worth Star-Telegram | The Honorable Michael J. Moncrief, Mayor, City of Forth Worth, 1000 Throckmorton Street, Fort Worth, TX 76102 | November 27, 2006 | 480596
Tarrant (FEMA Docket No.: B-7712) | City of Fort Worth (06-06-BK70P) | November 9, 2006; November 16, 2006; Fort Worth Star-Telegram | The Honorable Michael J. Moncrief, Mayor, City of Fort Worth, 1000 Throckmorton Street, Fort Worth, TX 76102 | February 15, 2007 | 480596
Tarrant (FEMA Docket No.: B-7712) | City of Fort Worth (06-06-BK71P) | December 21, 2006; December 28, 2006; Fort Worth Star-Telegram | The Honorable Michael J. Moncrief, Mayor, City of Fort Worth, 1000 Throckmorton Street, Fort Worth, TX 76102 | March 29, 2007 | 480596
Tarrant (FEMA Docket No.: B-7474) | City of North Richland Hills (06-06-B788P) | September 21, 2006; September 28, 2006; Dallas Morning News | The Honorable Oscar Trevino, Mayor, City of North Richland Hills, P.O. Box 820609, North Richland Hills, TX 76182-0609 | August 30, 2006 | 480607
Utah:
Grand (FEMA Docket No.: B-7712) | City of Moab (06-08-B290P) | November 30, 2006; December 7, 2006; The Times-Independent | The Honorable David Sakrison, Mayor, City of Moab, 217 East Center Street, Moab, UT 84532 | March 8, 2007 | 490072
Grand (FEMA Docket No.: B-7712) | Unincorporated areas of Grand County (06-08-B290P) | November 30, 2006; December 7, 2006; The Times-Independent | The Honorable Joette Langianese, Chair, Grand County Council, 125 East Center Street, Moab, UT 84532 | March 8, 2007 | 490232
Salt Lake (FEMA Docket No.: B-7712) | City of South Jordan (06-08-B511P) | December 21, 2006; December 28, 2006; The Salt Lake Tribune | The Honorable William Kent Money, Mayor, City of South Jordan, 1600 West Towne Center Drive, South Jordan, UT 84095 | November 27, 2006 | 490107
Washington (FEMA Docket No.: B-7712) | City of St. George (05-08-0365P) | November 22, 2006; November 29, 2006; St. George Spectrum | The Honorable Daniel D. McArthur, Mayor, City of St. George, 175 East 200 North, St. George, UT 84770 | February 28, 2007 | 490177
Washington (FEMA Docket No.: B-7712) | Unincorporated areas of Washington County (05-08-0365P) | November 22, 2006; November 29, 2006; St. George Spectrum | The Honorable James J. Eardley, Chairman, Washington County Board of Commissioners, 197 East Tabernacle Street, St. George, UT 84770 | February 28, 2007 | 490224
Virgina:
Fauquier (FEMA Docket No.: B-7474) | Unincorporated areas of Fauquier County (05-03-0241P) | September 13, 2006; September 20, 2006; Fauquier Times | Mr. Paul McCulla, County Administrator, Fauquier County, 10 Hotel Street, Suite 204, Warrenton, VA 20186 | December 20, 2006 | 510055
Prince William (FEMA Docket No.: B-7474) | Town of Haymarket (05-03-A398P) | September 28, 2006; October 5, 2006; Potomac News & Manassas Journal Messenger | The Honorable Pamela E. Stutz, Mayor, Town of Haymarket, P.O. Box 367, Haymarket, VA 20168 | January 4, 2007 | 510121
Rockingham (FEMA Docket No.: B-7712) | Unincorporated areas of Rockingham County (07-03-0034P) | December 21, 2006; December 28, 2006; Daily News-Record | Mr. Joseph S. Paxton, County Administrator, Rockingham County Administration Center, 20 East Gay Street, Harrisonburg, VA 22802 | March 29, 2007 | 510133
Washington: Pierce (FEMA Docket No.: B-7474) | Unincorporated areas of Pierce County (06-10-B193P) | September 21, 2006; September 28, 2006; The News Tribune | The Honorable Shawn Bunney, Pierce County Council Chairman, 930 Tacoma Avenue South, County-City Building, Room 1046, Tacoma, WA 98402-2176 | August 30, 2006 | 530138
Wyoming:
Laramie (FEMA Docket No.: B-7474) | City of Cheyenne (06-08-B409P) | September 21, 2006; September 28, 2006; Wyoming Tribune-Eagle | The Honorable Jack R. Spiker, Mayor, City of Cheyenne, 2101 O'Neil Avenue, Room 310, Cheyenne, WY 82001 | August 29, 2006 | 560030
Laramie (FEMA Docket No.: B-7474) | Unincorporated areas of Laramie County (06-08-B409P) | September 21, 2006; September 28, 2006; Wyoming Tribune-Eagle | The Honorable Diane Humphrey, Chairman, Laramie County, Board of Commissioners, 309 West 20th Street, Cheyenne, WY 82001 | August 29, 2006 | 560029

(Catalog of Federal Domestic Assistance No. 83.100, “Flood Insurance.”)
Dated: May 3, 2007.
David I. Maurstad,
Federal Insurance Administrator of the National Flood Insurance Program, Federal Emergency Management Agency, Department of Homeland Security.

[FR Doc. 07-2384 Filed 5-16-07; 8:45 am]

BILLING CODE 9110-12-P